DEPARTMENT OF THE INTERIOR

National Park Service

[NPS-MWR-CUVA-17695; PPMWMWROW2/PMP00UP05.YP0000]

Notice of Availability of a Record of Decision for the White-Tailed Deer Management Plan, Environmental Impact Statement, Cuyahoga Valley National Park, Ohio

AGENCY: National Park Service, Interior.

ACTION: Notice of Availability.

SUMMARY: The National Park Service (NPS) announces the availability of the Record of Decision (ROD) for the White-Tailed Deer Management Plan/Environmental Impact Statement (plan/EIS), Cuyahoga Valley National Park (Park), Ohio.

ADDRESSES: Copies of the ROD are available by request by writing to the Chief of the Resource Management Division, Lisa Petit, Cuyahoga Valley National Park, 15610 Vaughn Road, Brecksville, Ohio 44141, telephone (440) 546-5970. The document is also available on the internet at the NPS Planning, Environment, and Public Comment Web site at: http://www.parkplanning.nps.gov/.

FOR FURTHER INFORMATION CONTACT: Chief of the Resource Management Division, Lisa Petit at the address or telephone number above.

SUPPLEMENTARY INFORMATION: We have issued a ROD for the final plan/EIS; on February 13, 2015, the Acting Regional Director for the Midwest Region approved the ROD. The plan/EIS analyzed four alternatives, including a no-action alternative. The full range of foreseeable environmental consequences was assessed, and appropriate mitigating measures were identified.

The NPS decision is to implement alternative D (hereinafter referred to as the “selected action”), which was identified as the NPS preferred alternative in the final plan/EIS. The selected action will utilize an adaptive management strategy. Under the selected action, the NPS will continue current park deer management actions including: Research, monitoring, and data management; protection of restoration plantings; education and coordination; and enforcement of the existing wildlife feeding ban. In addition, the NPS will incorporate a combination of lethal and nonlethal actions to address high deer density. Lethal actions (including sharpshooting, with very limited capture/euthanasia if necessary) will be taken initially to reduce deer densities quickly. It is anticipated that in years one through four, 335 deer will be removed by sharpshooting (in addition to small numbers of deer removed by capture and euthanasia) to meet the deer density goal. Population maintenance will follow the initial reduction, and could be conducted by nonsurgical reproductive control methods, if an acceptable agent is available, or by sharpshooting. Both maintenance methods are included in the selected action to maintain maximum flexibility for future management. All actions will be carried out by NPS personnel or authorized agents.

The Record of Decision includes a summary of the purpose and need for action, identifies the selected action and all alternatives considered by the NPS, a listing of measures to minimize environmental harm, details about the monitoring program that will inform implementation of the selected action, the basis for the decision, and a description of the environmentally preferable alternative.

Dated: February 13, 2015.
Patricia S. Trap,
Acting Regional Director, Midwest Region.

Editor's Note: This document was received for publication by the Office of Federal Register on June 18, 2015.

[FR Doc. 2015-15477 Filed 6-22-15; 8:45 am]

BILLING CODE 4310-MA-P